DEPARTMENT OF EDUCATION

[CFDA NO: 84.031H and 84.031N]

Alaska Native and Native Hawaiian-Serving Institutions Program

Notice of reopening of Fiscal Year 2000 deadline dates for receipt of applications for designation as eligible Alaska Native-Serving Institutions and for receipt of grant applications from Alaska Native-Serving Institutions; correction.

On June 23, 2000 we published in the Federal Register (65 FR 39136-39137) (FR Doc. 00-15920) a notice to extend the deadline dates for receipt of applications for designation as eligible Alaska Native-Serving Institutions and for receipt of grant applications from eligible Alaska Native-Serving Institutions. In that notice the date for “Deadline for Transmittal of Applications” requesting designation as an eligible Alaska Native-Serving Institution and the Alaska Native-Serving Institutions Certification Form (Appendix XIII in the application booklet) was stated incorrectly as June 28, 2000. This notice corrects that date to read “July 7, 2000.” The deadline for transmittal of grant applications remains July 28, 2000.

For Applications or Information Contact: Darlene B. Collins, U.S. Department of Education, 1990 K Street, NW., 6th Floor, Washington, D.C. 20006-8513. Telephone (202) 502-7777. E-mail: darlene_collins@ed.gov

If you use a telecommunications device for the deaf (TDD), you may call the Federal Information Relay Service (FIRS) at 1-800-877-8339.

Individuals with disabilities may obtain this document in an alternative format (e.g., Braille, large print, audio tape, or computer diskette) on request to the contact person listed in the preceding paragraph.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use PDF, you must have Adobe Acrobat Reader Program, which is available free at either of the previous sites. If you have questions about using PDF, call the U.S. Government Printing Office (GPO) toll free at 1-888-293-6498; or in the Washington, DC, area at (202) 572-1530.

Note: The official version of a document is the document published in the Federal Register. Free Internet access to the official edition of the Federal Register and the Code of Federal Regulations is available on GPO Access at: http://www.access.gpo.gov/nara/index.html

Program Authority: 20 U.S.C. 1059d.

Dated: June 26, 2000.
A. Lee Fritschler,
Assistant Secretary, Office of Postsecondary Education.

[FR Doc. 00-16445 Filed 6-26-00; 12:32 pm]

BILLING CODE 4000-01-P